DEPARTMENT OF AGRICULTURE

Farm Service Agency

Notice of Request for Extension of a Currently Approved Information Collection—Farm Loan Programs Account Servicing Policies

AGENCY: Farm Service Agency, USDA.

ACTION: Notice and request for comments.

SUMMARY: In accordance with the Paperwork Reduction Act of 1995, this notice announces the intent of the Farm Service Agency (FSA) to request an extension of a currently approved information collection for “Farm Loan Programs Account Servicing Policies” used in support of the FSA, Farm Loan Programs (FLP). This renewal does not involve any revisions to the program regulations.

DATES: Comments on this notice must be received on or before October 21, 2003 to be assured consideration.

FOR FURTHER INFORMATION CONTACT: Bashir Duale, Senior Loan Officer, USDA, Farm Service Agency, Loan Servicing and Property Management Division, 1400 Independence Avenue, SW., STOP 0523, Washington, DC 20250-0523; Telephone (202) 720-1645; Electronic mail: bashir_duale@wdc.usda.gov.

SUPPLEMENTARY INFORMATION: Title: Farm Loan Programs Account Servicing Policies.

OMB Control Number: 0560-0161.

Expiration Date of Approval: March 31, 2004.

Type of Request: Extension of Currently Approved Information Collection.

Abstract: The regulation describes the policies and procedures the Agency will use in servicing delinquent FLP loans. Servicing of the accounts is administered in accordance with the provisions of the Consolidated Farm and Rural Development Act (CONACT), as amended. The CONACT establishes required notification by the Agency and response time frame requirements for the borrower and Agency actions on the borrower's request. Specifically, it requires a borrower to document that they can meet family living and farm operating expenses and service all debts, including the loan they are proposing to be restructured by the Agency. This information submitted by the borrowers to the Agency is used by the Agency officials to consider a financially distressed or delinquent borrower's request for debt restructuring, including rescheduling, re-amortization, consolidation, deferral, and write down.

Estimate of Burden: Public reporting burden for this collection of information is estimated to average 45 minutes per response.

Respondents: Individuals or households, businesses or other for profit and farms.

Estimated Number of Respondents: 11,672.

Estimated Number of Responses per Respondent: 1.

Estimated Total Annual Burden on Respondents: 25,302.

Comments are sought on these requirements including: (a) Whether the collection of information is necessary for the proper performance of the functions of the agency, including whether the information will have practical utility, (b) the accuracy of the agency's estimate of burden including the validity of the methodology and assumptions used; (c) ways to enhance the quality, utility and clarity of the information to be collected; and (d) ways to minimize the burden of the collection of information on those who are to respond, including through the use of appropriate automated, electronic, mechanical, or other technological collection techniques or other forms of information technology.

Comments should be sent to the Desk Officer for Agriculture, Office of Information and Regulatory Affairs, Office of Management and Budget, Washington, DC 20503 and to Bashir Duale, USDA, FSA, Farm Loan Programs, Loan Servicing and Property Management Division, 1400 Independence Avenue, SW., STOP 0523, Washington, DC 20250-0523. Copies of the information collection may be obtained from Bashir Duale at the above address.

All responses to this notice will be summarized and included in the request for OMB approval of the information collection. All comments will also become a matter of public record.

Signed in Washington, DC, on August 15, 2003.
James R. Little,
Administrator, Farm Service Agency.

[FR Doc. 03-21491 Filed 8-21-03; 8:45 am]

BILLING CODE 3410-05-P